DEPARTMENT OF THE INTERIOR

Bureau of Ocean Energy Management

[Docket No. BOEM-2017-0020]

Outer Continental Shelf Official Protraction Diagrams MMAA104000

AGENCY: Bureau of Ocean Energy Management, Interior.

ACTION: Availability of World Geodetic System Datum of 1984 Outer Continental Shelf Official Protraction Diagrams.

SUMMARY: Notice is hereby given of the availability of new World Geodetic System Datum of 1984 (WGS 84)-based Outer Continental Shelf (OCS) Official Protraction Diagrams (OPDs) depicting geographic areas located in the Pacific Ocean. The Bureau of Ocean Energy Management (BOEM), in accordance with its authority and responsibility under the OCS Lands Act, is announcing the availability of maps that could be used for the description of potential energy and mineral lease sales in the geographic areas they represent.

ADDRESSES: Copies of the OPDs are available for download in .pdf format at: https://www.boem.gov/Oil-and-Gas-Energy-Program/Mapping-and-Data/Pacific.aspx.

FOR FURTHER INFORMATION CONTACT: Douglas Vandegraft, Chief, Mapping and Boundary Branch at (703) 787-1312 or via email at Doug.Vandegraft@boem.gov.

SUPPLEMENTARY INFORMATION: The maps represent the first non-provisional OPDs published by BOEM that reflect Federal waters seaward of the State of Hawaii. The Submerged Lands Act Boundary was projected three nautical miles seaward from the shoreline as shown on nautical charts produced by the National Oceanic and Atmospheric Administration dated 2001-2008. Further information is provided on the specific OPDs.

Outer Continental Shelf Official Protraction Diagrams in the Pacific Ocean

Description/Date

NF04-08 (Kauai Channel)—09/01/2017

NF04-09 (Oahu)—09/01/2017

NF04-12 (Maui)—09/01/2017

Dated: December 29, 2017.
Walter D. Cruickshank,
Deputy Director, Bureau of Ocean Energy Management.

[FR Doc. 2017-28501 Filed 1-4-18; 8:45 am]

BILLING CODE 4310-MR-P